DEPARTMENT OF THE INTERIOR

Bureau of Land Management

[LLWYD03000. L51100000. GN0000. LVEMK10CW580]

Notice of Intent To Prepare an Environmental Impact Statement for the Proposed Lost Creek In Situ Uranium Recovery Project in Sweetwater County, WY

AGENCY: Bureau of Land Management, Interior.

ACTION: Notice of intent.

SUMMARY: In compliance with the National Environmental Policy Act (NEPA) of 1969, as amended, and the Federal Land Policy and Management Act of 1976, as amended, the Bureau of Land Management (BLM) Rawlins Field Office, Rawlins, Wyoming, intends to prepare an Environmental Impact Statement (EIS) and by this notice is announcing the beginning of the scoping process to solicit public comments and identify issues.

DATES: This notice initiates the public scoping process for the EIS. Comments on issues may be submitted in writing until March 14, 2011. The date(s) and location(s) of any scoping meetings will be announced at least 15 days in advance through local media, newspapers and the BLM Web site at: http://www.blm.gov/wy/st/en/info/NEPA/rfodocs/lostcreek.html.

In order to be included in the Draft EIS, all comments must be received prior to the close of the scoping period or 15 days after the last public meeting, whichever is later. We will provide additional opportunities for public participation upon publication of the Draft EIS.

ADDRESSES: You may submit comments related to the Lost Creek In Situ Recovery Project by any of the following methods:

• Web site: http://www.blm.gov/wy/st/en/info/NEPA/rfodocs/lostcreek.html;

• E-mail: Lost_Crk_Mine_WY@blm.gov;

• Fax: (307) 328-4224; or

• Mail: Rawlins Field Office, Attention: Eldon Allison, 1300 North Third Street, P.O. Box 2407, Rawlins, Wyoming 82301-2407.

Documents pertinent to this proposal may be examined at the Rawlins Field Office.

FOR FURTHER INFORMATION CONTACT: For further information and/or to have your name added to our mailing list, contact Eldon Allison, Team Leader, telephone (307) 328-4267; address 1300 North Third Street, P.O. Box 2407, Rawlins, Wyoming 82301-2407; e-mail Eldon_Allison@blm.gov.

SUPPLEMENTARY INFORMATION: The applicant Lost Creek ISR LLC (Lost Creek) has filed a plan of operations pursuant to the 43 CFR subpart 3809 regulations to construct an ore recovery plant, an access road to the site, and a pipeline system for the flow of oxidizing leach solution to injection wells and return of fluids from recovery wells to the recovery plant site; to drill injection, recovery and monitoring wells; and to construct associated facilities such as parking lots, power lines, etc. Development and recovery of the uranium consists of dissolving underground uranium-bearing minerals into solution and then bringing it to the surface facility for concentration.

The Lost Creek ISR project is located about 40 miles northwest of Rawlins, Wyoming, in Sweetwater County. More specifically, the project is located in sections 16-20, 29-31, T. 25 N., R. 92 W., and sections 13, 24, and 25, T. 25 N., R. 93 W. The project area boundary includes approximately 4,250 acres, but no more than 324 acres would be subjected to actual surface disturbance and would be approved by the BLM. Most of the surface disturbance would be related to construction of the well pads used to extract the uranium in solution from the site. Construction would occur year round. The plant site would comprise approximately 10 acres, including parking space for about 50-60 employees. Multiple subsurface ore bodies range in depth from about 300-700 feet below the surface. Each of the six separate cells containing uranium would be established and mined one at a time. It is expected that mining operations would last about 8 years. An estimated additional 3 years would be required for startup and closure of the site for a total project length of 11 years. A proposed final reclamation plan for the project area has been submitted. All surface facilities would be removed when the project is completed and the land re-contoured to near pre-disturbance condition and re-vegetated.

In conjunction with this proposal, Lost Creek has also applied for a material source license from the Nuclear Regulatory Commission (NRC). The NRC is in the process of conducting its own environmental review and has released a draft Supplemental EIS. BLM may decide it is appropriate to incorporate by reference into its own EIS all or part of the NRC's Supplemental EIS once it is complete. In 2009, the BLM and the NRC entered into a memorandum of understanding to foster greater cooperation between the agencies with regard to the development of uranium resources on public lands.

The purpose of the public scoping process is to determine relevant issues that will influence the scope of the environmental analysis, including alternatives, and guide the process for developing the EIS. At present, the BLM has identified the following preliminary issues:

1. What standard operating procedures, best management practices or mitigation measures are necessary to reduce impacts from mineral resource exploration and development?

2. How will access to and transportation across the BLM lands be influenced by project facilities?

3. Will changes to recreation and off-highway vehicle management be necessary to protect the safety of public land users?

4. How will project activities affect wildlife or wildlife habitat including threatened, endangered, candidate, and sensitive species?

5. What effects to vegetation (including noxious and invasive species) might be expected from project development?

6. Will special project considerations be necessary to protect cultural resources?

7. Will the project facilities change wildland fire management response?

8. Will the project affect livestock grazing?

9. What project facilities will influence visual resource management?

10. Will project development affect air and water quality?

11. Will project development affect groundwater quality and quantity?

The BLM will utilize and coordinate the NEPA commenting process to satisfy the public involvement process for section 106 of the National Historic Preservation Act (16 U.S.C. 470f) as provided for in 36 CFR 800.2(d)(3).

Native American Tribes in the project area were consulted regarding the proposed project in conjunction with the NRC environmental review process, which resulted in an agreement among certain Tribes, BLM, NRC, and the State Historical Preservation Office. The BLM has invited three Tribes to be cooperating agencies in its EIS process. Any additional Native American Tribal consultations will be conducted in accordance with policy, and Tribal concerns will be given due consideration, including impacts on Indian trust assets. Federal, State, and local agencies, and Native American Tribes, along with other stakeholders that may be interested in or affected by the BLM's decision on this project, are invited to participate in the scoping process and, if eligible, may request or be requested by the BLM to participate as a cooperating agency. Before including your address, phone number, e-mail address, or other personal identifying information in your comment, you should be aware that your entire comment—including your personal identifying information—may be made publicly available at any time. While you may ask us in your comment to withhold your personal identifying information from public review, we cannot guarantee that we will be able to do so.

Authority: 40 CFR 1501.7.

Donald A. Simpson,
State Director.

[FR Doc. 2011-3073 Filed 2-10-11; 8:45 am]

BILLING CODE 4310-22-P